DEPARTMENT OF ENERGY

Federal Energy Regulatory Commission

Combined Notice of Filings

Take notice that the Commission has received the following Natural Gas Pipeline Rate and Refund Report filings:

Filings Instituting Proceedings

Docket Numbers: RP14-886-000.

Applicants: Equitrans, L.P.

Description: Docket RP14-442 Compliance Filing.

Filed Date: 5/15/14.

Accession Number: 20140515-5033.

Comments Due: 5 p.m. ET 5/27/14.

Docket Numbers: RP14-887-000.

Applicants: Rager Mountain Storage Company LLC.

Description: Docket No RP14-442 Compliance Filing.

Filed Date: 5/15/14.

Accession Number: 20140515-5034.

Comments Due: 5 p.m. ET 5/27/14.

Docket Numbers: RP14-888-000.

Applicants: Nautilus Pipeline Company, L.L.C.

Description: Purchase Capacity Compliance Filing to be effective 6/15/2014.

Filed Date: 5/15/14.

Accession Number: 20140515-5046.

Comments Due: 5 p.m. ET 5/27/14.

Docket Numbers: RP14-889-000.

Applicants: Garden Banks Gas Pipeline, LLC.

Description: Comply with Order RP14-442-000 to be effective 6/15/2014.

Filed Date: 5/15/14.

Accession Number: 20140515-5045.

Comments Due: 5 p.m. ET 5/27/14.

Docket Numbers: RP14-890-000.

Applicants: Mississippi Canyon Gas Pipeline, L.L.C.

Description: Purchase Capacity Compliance Filing to be effective 6/15/2014.

Filed Date: 5/15/14.

Accession Number: 20140515-5047.

Comments Due: 5 p.m. ET 5/27/14.

Docket Numbers: RP14-891-000.

Applicants: Transwestern Pipeline Company, LLC.

Description: Order to Show Cause Compliance Filing to be effective 7/1/2014.

Filed Date: 5/15/14.

Accession Number: 20140515-5058.

Comments Due: 5 p.m. ET 5/27/14.

Docket Numbers: RP14-892-000.

Applicants: Fayetteville Express Pipeline LLC.

Description: Order to Show Cause Compliance Filing to be effective 7/1/2014.

Filed Date: 5/15/14.

Accession Number: 20140515-5059.

Comments Due: 5 p.m. ET 5/27/14.

Docket Numbers: RP14-893-000.

Applicants: Stingray Pipeline Company, L.L.C.

Description: Offer to Purchase Capacity Compliance to be effective 6/15/2014.

Filed Date: 5/15/14.

Accession Number: 20140515-5060.

Comments Due: 5 p.m. ET 5/27/14.

Docket Numbers: RP14-894-000.

Applicants: ETC Tiger Pipeline, LLC.

Description: Order to Show Cause Compliance Filing to be effective 7/1/2014.

Filed Date: 5/15/14.

Accession Number: 20140515-5061.

Comments Due: 5 p.m. ET 5/27/14.

Docket Numbers: RP14-895-000.

Applicants: Central New York Oil And Gas, L.L.C.

Description: Capacity Release Purchase Offer Posting Show Cause Order Compliance Filing to be effective 12/31/9998.

Filed Date: 5/15/14.

Accession Number: 20140515-5078.

Comments Due: 5 p.m. ET 5/27/14.

Docket Numbers: RP14-896-000.

Applicants: Tallgrass Interstate Gas Transmission, L.

Description: Compliance to Show Cause—RP14-442 to be effective 6/14/2014.

Filed Date: 5/15/14.

Accession Number: 20140515-5087.

Comments Due: 5 p.m. ET 5/27/14.

Docket Numbers: RP14-897-000.

Applicants: National Grid LNG, LLC.

Description: RP14-442 Compliance.

Filed Date: 5/15/14.

Accession Number: 20140515-5119.

Comments Due: 5 p.m. ET 5/27/14.

Docket Numbers: RP14-898-000.

Applicants: Cameron Interstate Pipeline, LLC.

Description: Cameron Interstate Pipeline Requests to Purchase Capacity Compliance Filing to be effective 7/1/2014.

Filed Date: 5/15/14.

Accession Number: 20140515-5124.

Comments Due: 5 p.m. ET 5/27/14.

Docket Numbers: RP14-899-000.

Applicants: Mississippi Hub, LLC.

Description: Mississippi Hub Requests to Purchase Capacity Compliance Filing to be effective 7/1/2014.

Filed Date: 5/15/14.

Accession Number: 20140515-5125.

Comments Due: 5 p.m. ET 5/27/14.

Docket Numbers: RP14-900-000.

Applicants: LA Storage, LLC.

Description: LA Storage Request to Purchase Capacity Compliance Filing to be effective 7/1/2014.

Filed Date: 5/15/14.

Accession Number: 20140515-5126.

Comments Due: 5 p.m. ET 5/27/14.

Docket Numbers: RP14-901-000.

Applicants: Eastern Shore Natural Gas Company.

Description: Compliance to Show Cause Order.

Filed Date: 5/15/14.

Accession Number: 20140515-5127.

Comments Due: 5 p.m. ET 5/27/14.

Docket Numbers: RP14-902-000.

Applicants: Enable Gas Transmission, LLC.

Description: Negotiated Rate Filing—May 15, 2014 to be effective 5/15/2014.

Filed Date: 5/15/14.

Accession Number: 20140515-5143.

Comments Due: 5 p.m. ET 5/27/14.

Docket Numbers: RP14-903-000.

Applicants: SG Resources Mississippi, L.L.C.

Description: SG Resources Compliance with Capacity Release Purchase Offer to be effective 7/1/2014.

Filed Date: 5/15/14.

Accession Number: 20140515-5163.

Comments Due: 5 p.m. ET 5/27/14.

Docket Numbers: RP14-904-000.

Applicants: Pine Prairie Energy Center, LLC.

Description: Pine Prairie Compliance with Capacity Release Purchase Offer to be effective 7/1/2014.

Filed Date: 5/15/14.

Accession Number: 20140515-5166.

Comments Due: 5 p.m. ET 5/27/14.

Docket Numbers: RP14-905-000.

Applicants: Bluewater Gas Storage, LLC.

Description: Blue Water Compliance With Capacity Release Purchase Offer to be effective 7/1/2014.

Filed Date: 5/15/14.

Accession Number: 20140515-5170.

Comments Due: 5 p.m. ET 5/27/14.

Docket Numbers: RP14-906-000.

Applicants: Honeoye Storage Corporation.

Description: May 2014—Show Cause Order March 20, 2014 to be effective 5/20/2014.

Filed Date: 5/15/14.

Accession Number: 20140515-5189.

Comments Due: 5 p.m. ET 5/27/14.

Docket Numbers: RP14-907-000.

Applicants: Questar Pipeline Company.

Description: Notice of Offers to Release or to Purchase Capacity to be effective 6/16/2014.

Filed Date: 5/15/14.

Accession Number: 20140515-5244.

Comments Due: 5 p.m. ET 5/27/14.

Docket Numbers: RP14-908-000.

Applicants: Gulf Crossing Pipeline Company LLC.

Description: Compliance Filing to Show Cause Order in RP14-442-000 to be effective 6/15/2014.

Filed Date: 5/16/14.

Accession Number: 20140516-5035.

Comments Due: 5 p.m. ET 5/28/14.

Docket Numbers: RP14-909-000.

Applicants: Gulf South Pipeline Company, LP.

Description: Compliance Filing to Show Cause Order in RP14-442-000 to be effective 6/15/2014.

Filed Date: 5/16/14.

Accession Number: 20140516-5036.

Comments Due: 5 p.m. ET 5/28/14.

Docket Numbers: RP14-910-000.

Applicants: Texas Gas Transmission, LLC.

Description: Compliance filing in Docket No. RP14-442-000 to be effective 6/15/2014.

Filed Date: 5/16/14.

Accession Number: 20140516-5037.

Comments Due: 5 p.m. ET 5/28/14.

Docket Numbers: RP14-911-000.

Applicants: Petal Gas Storage, L.L.C.

Description: Compliance Filing in RP14-442 Show Cause Order to be effective 6/15/2014.

Filed Date: 5/16/14.

Accession Number: 20140516-5038.

Comments Due: 5 p.m. ET 5/28/14.

Docket Numbers: RP14-912-000.

Applicants: Boardwalk Storage Company, LLC.

Description: Compliance filing to Docket No. RP14-442-000 to be effective 6/15/2014.

Filed Date: 5/16/14.

Accession Number: 20140516-5039.

Comments Due: 5 p.m. ET 5/28/14.

Docket Numbers: RP14-913-000.

Applicants: Southwest Gas Storage Company.

Description: Order to Show Cause Compliance Filing to be effective 7/1/2014.

Filed Date: 5/16/14.

Accession Number: 20140516-5045.

Comments Due: 5 p.m. ET 5/28/14.

Docket Numbers: RP14-914-000.

Applicants: Sea Robin Pipeline Company, LLC.

Description: Order to Show Cause Compliance Filing to be effective 7/1/2014

Filed Date: 5/16/14.

Accession Number: 20140516-5047.

Comments Due: 5 p.m. ET 5/28/14.

Docket Numbers: RP14-915-000

Applicants: Trunkline LNG Company, LLC.

Description: Order to Show Cause Compliance Filing to be effective 7/1/2014.

Filed Date: 5/16/14.

Accession Number: 20140516-5050.

Comments Due: 5 p.m. ET 5/28/14.

Docket Numbers: RP14-916-000.

Applicants: Clear Creek Storage Company, L.L.C.

Description: Docket No. RP14-442-000 Compliance Filing to be effective 7/1/2014.

Filed Date: 5/16/14.

Accession Number: 20140516-5069.

Comments Due: 5 p.m. ET 5/28/14.

Docket Numbers: RP14-917-000.

Applicants: Rendezvous Pipeline Company, LLC.

Description: Docket No. RP14-442-000 Compliance Filing to be effective 7/1/2014.

Filed Date: 5/16/14.

Accession Number: 20140516-5070.

Comments Due: 5 p.m. ET 5/28/14.

Docket Numbers: RP14-918-000.

Applicants: EQT Energy, LLC.

Description: Petition for Temporary Waiver of EQT Energy, LLC.

Filed Date: 5/16/14.

Accession Number: 20140516-5081.

Comments Due: 5 p.m. ET 5/23/14.

Docket Numbers: RP14-919-000.

Applicants: Midcontinent Express Pipeline LLC.

Description: Show Cause Order Compliance Filing.

Filed Date: 5/16/14.

Accession Number: 20140516-5087.

Comments Due: 5 p.m. ET 5/28/14.

Docket Numbers: RP14-920-000.

Applicants: Kinder Morgan Louisiana Pipeline LLC.

Description: Kinder Morgan Louisiana Pipeline LLC submits tariff filing per 154.203: Show Cause Order Compliance Filing.

Filed Date: 5/16/14.

Accession Number: 20140516-5099.

Comments Due: 5 p.m. ET 5/28/14.

Docket Numbers: RP14-921-000.

Applicants: Kinder Morgan Illinois Pipeline LLC.

Description: Kinder Morgan Illinois Pipeline LLC submits tariff filing per 154.203: Show Cause Order Compliance Filing.

Filed Date: 5/16/14.

Accession Number: 20140516-5106.

Comments Due: 5 p.m. ET 5/28/14.

Docket Numbers: RP14-922-000.

Applicants: Horizon Pipeline Company, L.L.C.

Description: Horizon Pipeline Company, L.L.C. submits tariff filing per 154.203: Show Cause Order Compliance Filing.

Filed Date: 5/16/14.

Accession Number: 20140516-5107.

Comments Due: 5 p.m. ET 5/28/14.

Docket Numbers: RP14-923-000.

Applicants: Natural Gas Pipeline Company of America.

Description: Natural Gas Pipeline Company of America LLC submits tariff filing per 154.203: Show Cause Order Compliance Filing.

Filed Date: 5/16/14.

Accession Number: 20140516-5108.

Comments Due: 5 p.m. ET 5/28/14.

Docket Numbers: RP14-924-000.

Applicants: Cheyenne Plains Gas Pipeline Company, L.

Description: Cheyenne Plains Gas Pipeline Company, L.L.C. submits tariff filing per 154.203: Show Cause Order Compliance Filing to be effective 6/15/2014.

Filed Date: 5/16/14.

Accession Number: 20140516-5121.

Comments Due: 5 p.m. ET 5/28/14.

Docket Numbers: RP14-925-000.

Applicants: Ruby Pipeline, L.L.C.

Description: Ruby Pipeline, L.L.C. submits tariff filing per 154.203: Show Cause Order Compliance Filing to be effective 6/15/2014.

Filed Date: 5/16/14.

Accession Number: 20140516-5122.

Comments Due: 5 p.m. ET 5/28/14.

Docket Numbers: RP14-926-000.

Applicants: Colorado Interstate Gas Company, L.L.C.

Description: Colorado Interstate Gas Company, L.L.C. submits tariff filing per 154.203: Show Cause Order Compliance Filing to be effective 6/15/2014.

Filed Date: 5/16/14.

Accession Number: 20140516-5123.

Comments Due: 5 p.m. ET 5/28/14.

Docket Numbers: RP14-927-000.

Applicants: Wyoming Interstate Company, L.L.C.

Description: Wyoming Interstate Company, L.L.C. submits tariff filing per 154.203: Show Cause Order Compliance Filing to be effective 6/15/2014.

Filed Date: 5/16/14.

Accession Number: 20140516-5124.

Comments Due: 5 p.m. ET 5/28/14.

Docket Numbers: RP14-928-000.

Applicants: Young Gas Storage Company, Ltd.

Description: Young Gas Storage Company, Ltd. submits tariff filing per 154.203: Show Cause Order Compliance Filing to be effective 6/15/2014.

Filed Date: 5/16/14.

Accession Number: 20140516-5125.

Comments Due: 5 p.m. ET 5/28/14.

Docket Numbers: RP14-929-000.

Applicants: Guardian Pipeline, L.L.C.

Description: Guardian Pipeline, L.L.C. submits tariff filing per 154.203: RP14-442-000 Show Cause Compliance Filing to be effective 7/15/2014.

Filed Date: 5/16/14.

Accession Number: 20140516-5131.

Comments Due: 5 p.m. ET 5/28/14.

Docket Numbers: RP14-930-000.

Applicants: East Tennessee Natural Gas, LLC.

Description: East Tennessee Natural Gas, LLC submits tariff filing per 154.204: GeoMet temporary release to ARP to be effective 5/13/2014.

Filed Date: 5/16/14.

Accession Number: 20140516-5134.

Comments Due: 5 p.m. ET 5/28/14.

Docket Numbers: RP14-931-000.

Applicants: Midwestern Gas Transmission Company.

Description: Midwestern Gas Transmission Company submits tariff filing per 154.203: RP14-442-000 Show Cause Compliance Filing to be effective 7/15/2014.

Filed Date: 5/16/14.

Accession Number: 20140516-5140.

Comments Due: 5 p.m. ET 5/28/14.

Docket Numbers: RP14-932-000.

Applicants: OkTex Pipeline Company, L.L.C.

Description: OkTex Pipeline Company, L.L.C. submits tariff filing per 154.203: RP14-442-000 Show Cause Compliance Filing to be effective 7/15/2014.

Filed Date: 5/16/14.

Accession Number: 20140516-5144.

Comments Due: 5 p.m. ET 5/28/14.

Docket Numbers: RP14-933-000.

Applicants: Viking Gas Transmission Company.

Description: Viking Gas Transmission Company submits tariff filing per 154.203: RP14-442-000 Show Cause Compliance Filing to be effective 7/15/2014.

Filed Date: 5/16/14.

Accession Number: 20140516-5155.

Comments Due: 5 p.m. ET 5/28/14.

Docket Numbers: RP14-934-000.

Applicants: Questar Southern Trails Pipeline Company.

Description: Questar Southern Trails Pipeline Company submits tariff filing per 154.203: Notice of Offers to Release or to Purchase Released Capacity to be effective 6/16/2014.

Filed Date: 5/16/14.

Accession Number: 20140516-5185.

Comments Due: 5 p.m. ET 5/28/14.

Docket Numbers: RP14-935-000.

Applicants: Questar Overthrust Pipeline Company.

Description: Questar Overthrust Pipeline Company submits tariff filing per 154.203: Notice of Offers to Release or to Purchase Released Capacity to be effective 6/16/2014.

Filed Date: 5/16/14.

Accession Number: 20140516-5188.

Comments Due: 5 p.m. ET 5/28/14.

Docket Numbers: RP14-936-000.

Applicants: White River Hub, LLC.

Description: White River Hub, LLC submits tariff filing per 154.203: Notice of Offers to Release or to Purchase Released Capacity to be effective 6/16/2014.

Filed Date: 5/16/14.

Accession Number: 20140516-5189.

Comments Due: 5 p.m. ET 5/28/14.

Docket Numbers: RP14-937-000.

Applicants: Portland General Electric Company.

Description: Portland General Electric Company submits tariff filing per 154.203: PGE Response in RP14-442.

Filed Date: 5/16/14.

Accession Number: 20140516-5206.

Comments Due: 5 p.m. ET 5/28/14.

Docket Numbers: RP14-938-000.

Applicants: WestGas InterState, Inc.

Description: WestGas InterState, Inc. submits tariff filing per 154.203: 20140516_Compliance Filing_WGI Response to Order to Show Cause.

Filed Date: 5/16/14.

Accession Number: 20140516-5208.

Comments Due: 5 p.m. ET 5/28/14.

Docket Numbers: RP14-939-000.

Applicants: Tennessee Gas Pipeline Company, L.L.C.

Description: Tennessee Gas Pipeline Company, L.L.C. submits tariff filing per 154.204: Scheduling Priority Provisions to be effective 6/17/2014.

Filed Date: 5/16/14.

Accession Number: 20140516-5209.

Comments Due: 5 p.m. ET 5/28/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 19, 2014.
Nathaniel J. Davis, Sr.,
Deputy Secretary.

[FR Doc. 2014-12712 Filed 6-2-14; 8:45 am]

BILLING CODE 6717-01-P